DEPARTMENT OF JUSTICE

Notice of Lodging of Consent Decree Pursuant to the Comprehensive Environmental Response, Compensation and Liability Act

In accordance with Department of Justice policy codified at 28 CFR 50.7 and Section 122 of the Comprehensive Environmental Response, Compensation and Liability Act of 1980, as amended (“CERCLA”), 42 U.S.C. 9622, notice is hereby given that on January 3, 2002, a proposed consent decree in United States v. American Allied Additives, Inc., et al., No. 00-01014, was lodged with the United States District Court for the Northern District of Ohio. The proposed consent decree would resolve the United States' claims against defendant Advanced Chemical Design, Inc. under CERCLA Sections 106 and 107, 42 U.S.C. 9606 and 9607, in connection with the American Allied Additives Superfund Site (“Site”) in Cleveland, Ohio. The proposed consent decree would also resolve Advanced Chemical Design's counterclaim against the United States alleging a taking of private property in violation of the Fifth Amendment to the United States Constitution.

The U.S. Environmental Protection Agency (“EPA”) incurred unreimbursed costs of approximately $148,000 in responding to the release or threatened release of hazardous substances at the Site. Advanced Chemical Design is liable for response costs at the Site as a generator of waste disposed there and is subject to civil penalties as a result of noncompliance with a Unilateral Administrative Order issued by EPA for the performance of an emergency removal at the Site.

Under the proposed consent decree, Advanced Chemical Design agrees to pay a total of $1,000 ($300 for the claim under CERCLA Section 106, and $700 for the claim under CERCLA Section 107) within thirty (30) days of entry of the consent decree. Advanced Chemical Design also agrees to dismiss with prejudice its counterclaim against the United States. In exchange, Advanced Chemical Design will receive a covenant not to sue for Site response costs, and for civil penalties for the violations alleged in the complaint. Advanced Chemical Design will also receive contribution protection for Site response costs.

For a period of thirty (30) days from the date of this publication, the Department of Justice will receive comments related to the proposed consent decree. Comments should be addressed to the Assistant Attorney General, Environment and Natural Resources Division, U.S. Department of Justice, 950 Pennsylvania Avenue, NW., Washington, DC 20530, and should refer to United States v. American Allied Additives, Inc., et al., Civil Action No. 00-01014; D.J. Ref. No. 90-11-2-1318.

The consent decree may be examined at the Office of the United States Attorney, 1800 Bank One Center, 600 Superior Avenue, Cleveland, Ohio 44114, and at the U.S. Environmental Protection Agency, Region V, 77 West Jackson Boulevard, Chicago, Illinois 60604. A copy of the consent decree may also be obtained by mail from the Consent Decree Library, P.O. Box 7611, U.S. Department of Justice, Washington, DC 20044. In requesting a copy, please enclose a check in the amount of $5.75 (23 pages at 25 cents per page reproduction cost), and please refer to United States v. American Allied Additives, Inc., et al., Civil Action No. 00-01014; D.J. Ref. No. 90-11-2-1318.

William Brighton,
Assistant Chief, Environmental Enforcement Section, Environment and Natural Resources Division.

[FR Doc. 02-1150 Filed 1-15-02; 8:45 am]

BILLING CODE 4410-15-M